DEPARTMENT OF THE INTERIOR

Fish and Wildlife Service

Endangered and Threatened Species Permit Applications

ACTION: Notice of receipt of permit applications.

SUMMARY: The following applicants have applied for a scientific research permit to conduct certain activities with endangered species pursuant to section 10(a)(1)(A) of the Endangered Species Act of 1973, as amended (16 U.S.C. 1531, et seq.).

[Permit No. TE-050508]

Applicant: Melanie Pavlas, Dripping Springs, Texas. Applicant requests a permit for recovery purposes to conduct presence/absence surveys for the following species: Golden-cheeked warbler (Dendroica chrysoparia) and Black-capped vireo (Vireo atricapillus) within Texas.

[Permit No. TE-819471]

Applicant: SWCA Environmental Consultants, Salt Lake City, Utah. Applicant requests an amendment to an existing permit to allow presence/absence surveys for the following species: Black-footed ferret (Mustela nigripes) within Utah, Colorado, Wyoming, Montana, and Arizona; Yuma clapper rail (Rallus longirostris yumanensis) within Arizona, California, and Nevada; Kanab ambersnail (Oxyloma haydeni kanabensis) within Utah and Arizona; and Utah valvata snail (Valvata utahensis) within Utah.

[Permit No. TE-051581]

Applicant: David Baggett, Huntsville, Texas. Applicant requests a permit for recovery purposes to allow nest monitoring, banding, installation of artificial cavities and cavity restrictors, capture and translocation to and from donor populations of Red-cockaded woodpeckers (Picoides borealis) within Texas.

[Permit No. TE-051143]

Applicant: Donald J. Melton, Georgetown, Texas. Applicant requests a permit for recovery purposes to conduct presence/absence surveys for the following species: Houston toad (Bufo houstonensis), Black-capped vireo (Vireo atricapillus) and Golden-cheeked warbler (Dendroica chrysoparia) within Texas.

[Permit No. TE-019805]

Applicant: Angela Barclay, Tucson, Arizona. Applicant requests an amendment to an existing permit to allow presence/absence surveys for the Southwestern willow flycatcher (Empidonax traillii extimus) within Arizona.

[Permit No. TE-050490]

Applicant: Rion Bowers, Phoenix, Arizona. Applicant requests a permit for recovery purposes to conduct presence/absence surveys for the following species: Cactus ferruginous pygmy owl (Glaucidium brasilianum cactorum), Southwestern willow flycatcher (Empidonax traillii extimus), Yuma clapper rail (Rallus longirostris yumanensis), Lesser long-nosed bat (Leptonycteris curasoae yerbabuenae), Gila topminnow (Poeciliopsis occidentalis), Razorback sucker (Xyrauchen texanus) within Maricopa, Pinal and Santa Cruz counties of Arizona.

[Permit No. TE-051195]

Applicant: USDA National Resource Conservation Service, Parker, Arizona. Applicant requests a permit for recovery purposes to conduct presence/absence surveys for the following species: Southwestern willow flycatcher (Empidonax traillii extimus) and Yuma clapper rail (Rallus longirostris yumanensis) within Arizona and California.

[Permit No. TE-051150]

Applicant: Amy Gibbons, Tempe, Arizona. Applicant requests a permit for recovery purposes to conduct presence/absence surveys for the following species: Cactus ferruginous pygmy owl (Glaucidium brasilianum cactorum), Southwestern willow flycatcher (Empidonax traillii extimus), Yuma clapper rail (Rallus longirostris yumanensis), Lesser long-nosed bat (Leptonycteris curasoae yerbabuenae) and Black-footed ferret (Mustela nigripes) within Arizona.

[Permit No. TE-051189]

Applicant: Bureau of Land Management-Yuma Field Office, Yuma, Arizona. Applicant requests a permit for recovery purposes to conduct presence/absence surveys for the following species: Southwestern willow flycatcher (Empidonax traillii extimus), Yuma clapper rail (Rallus longirostris yumanensis) and Cactus ferruginous pygmy owl (Glaucidium brasilianum cactorum) within Arizona.

[Permit No. TE-833868]

Applicant: URS Corporation, Tucson, Arizona. Applicant requests an amendment to an existing permit to allow presence/absence surveys for the Yuma clapper rail (Rallus longirostris yumanensis) within Arizona.

[Permit No. TE-828640]

Applicant: Harris Environmental Group, Tucson, Arizona. Applicant requests an amendment to an existing permit to allow presence/absence surveys for the following species: Interior least tern (Sterna antillarum) and Northern aplomado falcon (Falco femoralis septentrionalis) within Arizona and Texas.

[Permit No. TE-051372]

Applicant: Wildlife Plus Consulting, Alto, New Mexico. Applicant requests an amendment to an existing permit to allow presence/absence surveys for the following species: Black-footed ferret (Mustela nigripes) and Northern aplomado falcon (Falco femoralis septentrionalis) within Lea County, New Mexico.

[Permit No. TE-052289]

Applicant: Darling Environmental & Surveying, Ltd., Tucson, Arizona. Applicant requests an amendment to an existing permit to allow presence/absence surveys for the following species: Southwestern willow flycatcher (Empidonax traillii extimus), Sonoran tiger salamander (Ambystoma tigrinum stebbinsi) and Gila topminnow (Poeciliopsis occidentalis) within Arizona.

[Permit No. TE-010472]

Applicant: Geo-Marine, Inc., Newport News, Virginia. Applicant requests an amendment to an existing permit to allow presence/absence surveys and monitoring of breeding, nesting, and feeding for the Interior least tern (Sterna antillarum) within Arizona, New Mexico and Texas.

[Permit No. TE-051716]

Applicant: Gretchen VanReyper, Austin, Colorado. Applicant requests a permit for recovery purposes to conduct presence/absence surveys for the Southwestern willow flycatcher (Empidonax traillii extimus) within the Four Corners area of New Mexico, Arizona, Utah and Colorado.

[Permit No. TE-025197]

Applicant: Lockheed Martin Environmental Services, Las Vegas, Nevada. Applicant requests an amendment to an existing permit to allow presence/absence surveys for the following species: Virgin river chub (Gila robusta semidnuda) and Woundfin (Plagopterus argentissimus) within Utah.

[Permit No. TE-028605]

Applicant: SWCA, Inc., Environmental Consultants-Flagstaff, Flagstaff, Arizona. Applicant requests an amendment to an existing permit to allow presence/absence surveys for the following species: Gila topminnow (Poeciliopsis occidentalis), Gila trout (Oncorhynchus gilae), Desert pupfish (Cyprinodon elegans), Rio Grande silvery minnow (Hybognathus amarus) and Yaqui chub (Gila purpurea) within Arizona, New Mexico, and Texas.

[Permit No. TE-039468]

Applicant: Cecelia M. Smith, Tucson, Arizona. Applicant requests an amendment to an existing permit to allow presence/absence surveys for the following species: Black-footed ferret (Mustela nigripes), Lesser long-nosed bat (Leptonycteris curasoae yerbabuenae), Sonoran pronghorn (Antilocapra americana sonoriensis), Hualapai Mexican vole (Microtus mexicanus hualpaiensis), Jaguar (Panthera onca), Sinaloan jaguarundi (Herpailurus yagouaroundi tolteca), Ocelot (Leopardus pardalis), Mexican gray wolf (Canis lupus), Sonoran tiger salamander (Ambystoma tigrinum stebbinsi), Southwestern willow flycatcher (Empidonax traillii extimus), Masked bobwhite (Colinus virginianus ridgwayi), California condor (Gymnogyps californianus), Yuma clapper rail (Rallus longirostris yumanensis), Gila trout (Oncorhynchus gilae) Bonytail chub (Gila elegans), Humpback chub (Gila cypha), Virgin River chub (Gila robusta seminuda), Colorado pikeminnow (Ptychocheilus lucius), Yaqui chub (Gila purpurea), Desert pupfish (Cyprinodon macularius), Razorback sucker (Xyrauchen texanus), Gila topminnow (Poeciliopsis occidentalis), Woundfin (Plagopterus argentissimus) and Kanab ambersnail (Oxyloma haydeni kanabensis) within Arizona.

[Permit No. TE-824573]

Applicant: Texas Department of Transportation , Austin, Texas. Applicant requests a permit for recovery purposes to conduct presence/absence surveys for the following species: jaguarundi (Herpailurus (=Felis) yagouaroundi), ocelot (Leopardus (=Felis) pardalis), northern aplomado falcon (Falco femoralis septentrionalis), Attwater's greater prairie-chicken (Tympanuchus cupido attwateri), and Texas wild-rice (Zizania texana).

Written comments on these permit applications must be received within 30 days of the date of publication.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8:00 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Steven C. Helfert,
Assistant Regional Director, Ecological Services, Region 2, Albuquerque, New Mexico.

[FR Doc. 02-5400 Filed 3-6-02; 8:45 am]

BILLING CODE 4310-55-P